NATIONAL SCIENCE FOUNDATION

Notice of the Availability of Finding of No Significant Impact for a Low-Energy Marine Seismic Survey by the Scripps Instituion of Oceanography on The Louisville Ridge in the Southwest Pacific Ocean

Correction

In notice document 05-22302 beginning on page 68102 in the issue of Wednesday, November 9, 2005, make the following corrections:

1. On page 68102, in the second column, in the first line “ashor@msf.gov” should read “ashor@nsf.gov.”

2. On the same page, in the same column, in the third and fourth lines, “http://www.nsf.gov/geo/oce/pubs/scripps_lousville&_ridge_EA.pdf” should read “http://www.nsf.gov/geo/oce/pubs/scripps_lousville_ridge_EA.pdf.”

3. On the same page, in the same column, in the fifth and sixth lines, “http://www.nsf.gov/geo/oce/pubs/scripps_lousville&_ridge_FONSI.pdf” should read “http://www.nsf.gov/geo/oce/pubs/scripps_lousville_ridge_FONSI.pdf.”

[FR Doc. C5-22302 Filed 11-17-05; 8:45 am]

BILLING CODE 1505-01-D